NUCLEAR REGULATORY COMMISSION

10 CFR Part 72

[NRC-2019-0160]

RIN 3150-AK36

List of Approved Spent Fuel Storage Casks: Holtec International HI-STORM 100 Multipurpose Canister Cask System, Certificate of Compliance No. 1014, Amendment No. 14

AGENCY: Nuclear Regulatory Commission.

ACTION: Direct final rule; confirmation of effective date.

SUMMARY: The U.S. Nuclear Regulatory Commission (NRC) is confirming the effective date of December 17, 2019, for the direct final rule that was published in the Federal Register on October 3, 2019. This direct final rule amended the NRC's spent fuel storage regulations by revising the Holtec International HI-STORM 100 Multipurpose Canister Cask System listing within the “List of approved spent fuel storage casks” to include Amendment No. 14 to Certificate of Compliance No. 1014. Amendment No. 14 revised the technical specifications to add new heat loading patterns, reduce the minimum cooling time, allow use of a damaged fuel isolator for storing damaged fuel, and modify the description of vents in the overpack. Amendment No. 14 also made other administrative changes to the technical specifications.

DATES: The effective date of December 17, 2019, for the direct final rule published on October 3, 2019 (84 FR 52747), is confirmed.

ADDRESSES: Please refer to Docket ID NRC-2019-0160 when contacting the NRC about the availability of information for this action. You may obtain publicly-available information related to this action by any of the following methods:

• Federal Rulemaking website: Go to https://www.regulations.gov and search for Docket ID NRC-2019-0160. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate, the proposed changes to the technical specifications, and the preliminary safety evaluation report are available in ADAMS under Accession No. ML19120A076. The final amendment to the certificate, the final changes to the technical specifications, and the final safety evaluation report also can be viewed in ADAMS under Accession No. ML19295C567.

• NRC's PDR: You may examine and purchase copies of public documents at the NRC's PDR, Room O1-F21, One White Flint North, 11555 Rockville Pike, Rockville, Maryland 20852.

FOR FURTHER INFORMATION CONTACT: Yen-Ju Chen, Office of Nuclear Material Safety and Safeguards; telephone: 301-415-1018; email: Yen-Ju.Chen@nrc.gov or Torre Taylor, Office of Nuclear Material Safety and Safeguards; telephone: 301-415-7900; email: Torre.Taylor@nrc.gov. Both are staff of the U.S. Nuclear Regulatory Commission, Washington, DC 20555-0001.

SUPPLEMENTARY INFORMATION: On October 3, 2019 (84 FR 52747), the NRC published a direct final rule amending its regulations in part 72 of title 10 of the Code of Federal Regulations (10 CFR) by revising the “List of approved spent fuel storage casks” to include Amendment No. 14 to Certificate of Compliance No. 1014 for the Holtec International HI-STORM 100 Multipurpose Canister Cask System (HI-STORM 100 Cask System). Amendment No. 14 revised the technical specifications to add new heat loading patterns, reduce the minimum cooling time, allow use of a damaged fuel isolator for storing damaged fuel, and modify the description of vents in the overpack. Amendment No. 14 also made other administrative changes to the technical specifications.

In the direct final rule, the NRC stated that if no significant adverse comments were received, the direct final rule would become effective on December 17, 2019. The NRC received one comment (ADAMS Accession No. ML19309E185). The commenter asked whether the NRC independently verified that the amended certificate will continue to protect public health, safety, and the environment and whether the HI-STORM 100 Cask System, as approved on May 1, 2000, continues to meet all requirements in 10 CFR 72.214 as outlined in Certificate of Compliance No. 1014. The NRC evaluated the comment against the criteria for withdrawing the direct final rule as described in the proposed rule (84 FR 52815; October 3, 2019) and determined it was not significant and adverse. Specifically, the commenter did not provide new information that would cause the NRC to reevaluate its position in the preliminary safety evaluation report (ADAMS Accession No. ML19120A064). The commenter did not provide information that would cause the NRC to conduct additional analyses nor did the commenter raise a serious issue that warrants an NRC response to complete the record. The commenter also did not raise any issues that have not been previously addressed. In addition, the commenter did not propose a change, without which the rule would be ineffective or unacceptable.

The NRC's safety evaluation report provides the NRC's review and assessment of Holtec's proposed changes and the independent calculations that the NRC performed to verify Holtec's analyses. The final safety analysis report provided by Holtec, and reviewed by the NRC, evaluates generic site characteristics. Any general licensee proposing to use Amendment No. 14 to the HI-STORM 100 Cask System will have to ensure, as required by 10 CFR 72.212(b)(6), that its site characteristics are enveloped by the cask design bases evaluated for Amendment No. 14. The NRC confirmed that Holtec's evaluation of Amendment No. 14 shows that the use of the damaged fuel isolators and new heat loads will not impair the ability of the storage cask to maintain confinement and subcriticality. Additionally, the off-site dose rates will meet the dose requirements in 10 CFR 72.236(d).

As discussed in the environmental assessment for the direct final rule, Amendment No. 14 does not reflect a significant change in design or fabrication of the cask; therefore, any resulting occupational exposure or offsite dose rates would remain well within the 10 CFR part 20 annual limits for public and occupational radiological doses. Additionally, Amendment No. 14 will not result in any radiological or non-radiological environmental impacts that significantly differ from the environmental impacts evaluated in the environmental assessment supporting the final rule, “Storage of Spent Fuel in NRC-Approved Storage Casks at Power Reactor Sites” (55 FR 29181; July 18, 1990). There will be no significant change in the types of, or significant revisions in the amounts of, any effluent released; no significant increase in the individual or cumulative radiation exposures; and no significant increase in the potential for, or consequences of, radiological accidents. Therefore, this direct final rule will become effective as scheduled.

Dated at Rockville, Maryland, this 6th day of December 2019.
For the Nuclear Regulatory Commission.
Pamela J. Shepherd-Vladimir,
Acting Chief, Regulatory Analysis and Rulemaking Support Branch, Division of Rulemaking, Environmental and Financial Support, Office of Nuclear Material Safety and Safeguards.

[FR Doc. 2019-26691 Filed 12-11-19; 8:45 am]

BILLING CODE 7590-01-P